DEPARTMENT OF ENERGY

Office of Energy Efficiency and Renewable Energy

Biomass Research and Development Technical Advisory Committee

AGENCY: Department of Energy.

ACTION: Notice of open meeting.

SUMMARY: This notice announces an open meeting of the Biomass Research and Development Technical Advisory Committee under the Biomass Research and Development Act of 2000. The Federal Advisory Committee Act (Pub. L. No. 92-463, 86 Stat. 770) requires that agencies publish these notices in the Federal Register to allow for public participation. This notice announces the meeting of the Biomass Research and Development Technical Advisory Committee.

DATES AND TIMES: May 15, 2007 from 1 p.m. to 5:15 p.m. May 16, 2007 from 8:30 a.m. to 4:15 p.m.

ADDRESSES: Quorum Room, L'Enfant Plaza Hotel, 480 L'Enfant Plaza SW., Washington, DC 20024, http://www.lenfantplazahotel.com.

FOR FURTHER INFORMATION CONTACT: Valri Lightner, Designated Federal Officer for the Committee, Office of Energy Efficiency and Renewable Energy, U.S. Department of Energy, 1000 Independence Avenue, SW., Washington, DC 20585; (202) 586-0937 or Michael Manella at (410) 997-7778 x217; E-mail: mmanella@bcs-hq.com.

SUPPLEMENTARY INFORMATION: Purpose of Meeting: To provide advice and guidance that promotes research and development leading to the production of biobased fuels and biobased products.

Tentative Agenda: Agenda will include the following:

• Welcome/Update from the Biomass R&D Board

• Introduction of new Department of Energy Designated Federal Officer

• Update on U.S. Department of Agriculture (USDA) Activities

• Presentation on USDA Matrix Benefit Analysis of 2002 Farm Bill Section 9008 Projects

• Updates from the Policy, Communications, and Analysis Subcommittees

• Presentation on Genomics Bioenergy Research Centers

• Presentation on International Biofuels Codes and Standards

• Discussion of the Roadmap Update

• Discussion of Fiscal Year 2007 Recommendations to the Secretaries of Agriculture and Energy

• Discussion of 2007 Committee Work Plan

Public Participation: In keeping with procedures, members of the public are welcome to observe the business of the Biomass Research and Development Technical Advisory Committee. To attend the meeting and/or to make oral statements regarding any of the items on the agenda, you should contact Valri Lightner at 202-586-0937 or the Biomass Initiative 410-997-7778 x217 or mmanella@bcs-hq.com (e-mail). You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at the Freedom of Information Public Reading Room; Room 1E-190; Forrestal Building; 1000 Independence Avenue, SW., Washington, DC, between 9 a.m. and 4 p.m., Monday through Friday, except Federal holidays.

Issued at Washington, DC on April 20, 2007.
Rachel M. Samuel,
Deputy Advisory Committee Management Officer.

[FR Doc. E7-7854 Filed 4-24-07; 8:45 am]

BILLING CODE 6450-01-P